DEPARTMENT OF THE INTERIOR

Bureau of Indian Affairs

Land Acquisitions; Ione Band of Miwok Indians of California

AGENCY: Bureau of Indian Affairs, Interior.

ACTION: Notice of final agency determination.

SUMMARY: The Acting Assistant Secretary—Indian Affairs made a final agency determination to acquire 228.04 acres of land into trust for the Ione Band of Miwok Indians of California on May 24, 2012.

FOR FURTHER INFORMATION CONTACT: Paula L. Hart, Director, Office of Indian Gaming, Bureau of Indian Affairs, MS-3657 MIB, 1849 C Street NW., Washington, DC 20240; Telephone (202) 219-4066.

SUPPLEMENTARY INFORMATION: This notice is published in the exercise of authority delegated by the Secretary of the Interior to the Assistant Secretary—Indian Affairs by 209 Departmental Manual 8.1 and is published to comply with the requirements of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On May 24, 2012, the Acting Assistant Secretary—Indian Affairs decided to accept 228.04 acres of land into trust for the Ione Band of Miwok Indians of California under the authority of the Indian Reorganization Act of 1934, 25 U.S.C. 465.

The land referred to herein is situated in the unincorporated area, County of Amador, State of California and is described as follows:

Real property in the unincorporated area of the County of Amador, State of California, described as follows:

APN: 008-110-009

ALL THOSE PORTIONS OF SECTIONS 14 AND 15, BOTH TOWNSHIP 7 NORTH, RANGE 10 EAST, MOUNT DIABLO MERIDIAN, SHOWN ON THAT CERTAIN RECORD OF SURVEY OF THE AREA OCCUPIED BY EVERETT AND GLENN FANCHER, FILED JUNE 15, 1982 IN BOOK 35 OF MAPS AND PLATS, AT PAGES 94 AND 95, IN THE OFFICE OF THE COUNTY RECORDER, AMADOR COUNTY, CALIFORNIA.

SAID LAND HERETOFORE BEING DESCRIBED AS:

(A) ALL THE SOUTHEAST QUARTER OF THE NORTHEAST QUARTER OF SECTION 15, TOWNSHIP 7 NORTH, RANGE 10 EAST, MOUNT DIABLO MERIDIAN, THAT LIES EAST OF THE COUNTY ROAD RUNNING FROM PLYMOUTH TO DRYTOWN VIA THE CENTRAL HOUSE, AS SAID ROAD EXISTED APRIL 11, 1896, BEING THE DATE OF THE DEED FROM M. BUTLER, ET UX, TO THOMAS BOYSON, RECORDED APRIL 18, 1896 IN BOOK 13 OF DEEDS, PAGE 120, RECORDS OF AMADOR COUNTY.

EXCEPT ALL THAT PORTION THEREOF DESCRIBED IN DEED FROM EVERETT FANCHER, ET AL, TO THE STATE OF CALIFORNIA RECORDED AUGUST 11, 1969, IN BOOK 186, PAGE 202, OFFICIAL RECORDS OF AMADOR COUNTY.

EXCEPT AND TOGETHER WITH ALL THAT REAL PROPERTY MORE PARTICULARLY REFERRED TO IN THAT CERTAIN BOUNDARY LINE AGREEMENT BY AND BETWEEN NORMAN V. WHEELER, ET UX, AND EVERETT FANCHER, ET AL, RECORDED JANUARY 4, 1989 IN BOOK 560, PAGE 28, OFFICIAL RECORDS OF AMADOR COUNTY.

(B) LOTS 8 AND 10 AND THE SOUTHWEST QUARTER OF THE NORTHWEST QUARTER OF SECTION 14, TOWNSHIP 7 NORTH, RANGE 10 EAST, MOUNT DIABLO MERIDIAN.

EXCEPT AND TOGETHER WITH ALL THAT REAL PROPERTY MORE PARTICULARLY REFERRED TO IN THAT CERTAIN BOUNDARY LINE AGREEMENT BY AND BETWEEN RONALD G. MATULICH, ET UX, AND EVELYN JEAN SMITH, ET AL, RECORDED JANUARY 27, 1999, INSTRUMENT NO. 1999-000877, OFFICIAL RECORDS OF AMADOR COUNTY.

(C) THE PIONEER QUARTZ MINE, BEING LOT 87 OF SECTION 14, TOWNSHIP 7 NORTH, RANGE 10 EAST, MOUNT DIABLO MERIDIAN.

(D) GOVERNMENT LOT 93 IN SECTION 14, TOWNSHIP 7 NORTH, RANGE 10 EAST, MOUNT DIABLO MERIDIAN, BEING ALSO KNOWN AS THE “FORTY-NINE GOLD QUARTZ MINE”.

EXCEPT AND TOGETHER WITH ALL THAT REAL PROPERTY MORE PARTICULARLY REFERRED TO IN THAT CERTAIN BOUNDARY LINE AGREEMENT BY AND BETWEEN RONALD G. MATULICH, ET UX, AND EVELYN JEAN SMITH, ET AL, RECORDED JANUARY 27, 1999, INSTRUMENT NO. 1999-000877M, OFFICIAL RECORDS OF AMADOR COUNTY.

APN: 010-200-004 and 010-200-003

PARCEL ONE:

PARCEL 5 AND 6 OF PARCEL MAP NO. 2290, ACCORDING TO THE OFFICIAL MAP THEREOF, FILED FOR RECORD ON JANUARY 11, 1989 IN BOOK 43 OF MAPS AND PLATS, AT PAGE 29, AMADOR COUNTY RECORDS.

PARCEL TWO:

AN EASEMENT FOR INGRESS AND EGRESS OVER THOSE AREAS SHOWN AND DESIGNATED AS VILLAGE DRIVE AND LOT A ON PARCEL MAP NO. 2290, ACCORDING TO THE OFFICIAL MAP THEREOF, FILED FOR RECORD ON JANUARY 11, 1989 IN BOOK 43 OF MAPS AND PLATS, AT PAGE 29, AMADOR COUNTY RECORDS.

APN: 010-200-008

PARCEL ONE:

PARCEL 1 OF PARCEL MAP NO. 2290, ACCORDING TO THE OFFICIAL MAP THEREOF FILED FOR RECORDS ON JANUARY 11, 1989 IN BOOK 43 OF MAPS AND PLATS, AT PAGE 29, AMADOR COUNTY RECORDS.

PARCEL TWO:

A NON-EXCLUSIVE EASEMENT FOR DRIVEWAY, PARKING AND LANDSCAPING PURPOSES OVER THE WESTERLY 185 FEET, MORE OR LESS, OF LOT 2 OF PARCEL MAP NO. 2290, ACCORDING TO THE OFFICIAL MAP THEREOF FILED FOR RECORD ON JANUARY 11, 1989 IN BOOK 43 OF MAPS AND PLATS, AT PAGE 29, AMADOR COUNTY RECORDS.

APN: 010-200-009

PARCEL 2 OF PARCEL MAP NO. 2290, ACCORDING TO THE OFFICIAL MAP THEREOF FILED FOR RECORD ON JANUARY 11, 1989 IN BOOK 43 OF MAPS AND PLATS, AT PAGE 29, AMADOR COUNTY RECORDS.

APN: 008-110-021

THE GOVERNOR BRADFORD QUARTZ MINE, DESIGNATED BY THE U.S. SURVEYOR GENERAL AS MINERAL SURVEY NO. 5031, EMBRACING A PORTION OF SECTION 14, TOWNSHIP 7 NORTH, RANGE 10 EAST.

APN: 008-110-022

THE NEW LONDON QUARTZ MINE, MINERAL ENTRY NO. 276, DESIGNATED BY THE SURVEYOR GENERAL AS LOT NO. 60 EMBRACING A PORTION OF THE SOUTHEAST QUARTER OF SECTION 11 AND THE NORTHWEST QUARTER OF SECTION 14, IN TOWNSHIP 7 NORTH, RANGE 10 EAST, M.D.M., IN THE PLYMOUTH MINING DISTRICT, AMADOR COUNTY, CALIFORNIA, AND MORE PARTICULARLY DESCRIBED IN PATENT THEREOF FROM THE UNITED STATES OF AMERICA TO JEREMIAH GREEN ET AL, DATED DECEMBER 9, 1875 AND RECORDED DECEMBER 18, 1883 IN VOLUME A OF QUARTZ MINERAL PATENTS, PAGE 113, AMADOR COUNTY RECORDS, TO WHICH PATENT AS SO RECORDED, REFERENCE IS HEREBY MADE FOR A MORE PARTICULARLY DESCRIPTION OF SAID QUARTZ MINE.

EXCEPTING THEREFROM THE NORTHERN ⅔ THEREOF, HERETOFORE SOLD BY W.P. DETERT ET AL TO CALIFORNIA EXPLORATION COMPANY, LTD., BY DEED RECORDED IN VOLUME 37 OF DEEDS, PAGE 161, AMADOR COUNTY RECODS, ALSO ALL THAT PORTION IN THE NEW LONDON QUARTZ MINE MILLSITE, MORE PARTICULARLY DESCRIBED IN THE CORRECTED DECREE OF DISTRIBUTION IN THE MATTER OF THE ESTATE OF BENJAMIN F. TAYLOR, DECEASED, RECORDED APRIL 23, 1919, IN BOOK 2 OF DECREE OF DISTRIBUTION AT PAGES 458-460 INCLUSIVE, AMADOR COUNTY RECORDS.

EXCEPTING AND PRESERVING THEREFROM ALL MINERALS AND MINERAL DEPOSITS LYING BELOW A DEPTH OF 100' FROM THE SURFACE OF SAID LANDS AND WITHOUT RIGHTS OF SURFACE ENTRY THEREON, SUBJECT, HOWEVER, TO GRANTEES RIGHTS TO CONTINUING SUBJACENT SUPPORT OF BOTH LAND AND IMPROVEMENTS NOW EXISTING OR HEREAFTER CONSTRUCTED.

APN: 008-110-026

PARCEL ONE:

THE NORTHWEST QUARTER OF THE NORTHWEST QUARTER OF SECTION 14, TOWNSHIP 7 NORTH, RANGE 10 EST, MDB&M.

PARCEL TWO:

ALL THAT CERTAIN REAL PROPERTY SITUATED IN THE COUNTY OF AMADOR, STATE OF CALIFORNIA, PARTICULARLY DESCRIBED AS FOLLOWS:

A PARCEL OF LAND SITUATED IN THE COUNTY OF AMADOR, STATE OF CALIFORNIA, BEING A PORTION OF SECTION 11, TOWNSHIP 7 NORTH, RANGE 10 EAST, MOUNT DIABLO MERIDIAN, BEING ALSO A PORTION OF THAT CERTAIN PARCEL OF LAND DELINEATED AND DESIGNATED “ELLA DERANIA PROPERTY 33.26 ACRES +” UPON THAT CERTAIN OFFICIAL MAP ENTITLED RECORD OF SURVEY PROPERTY OF ELLA DERANIA RECORDED IN THE OFFICE OF THE RECORDER OF AMADOR COUNTY ON JANUARY 18, 1967 IN BOOK 13 MAPS AND PLATS AT PAGE 24, MORE PARTICULARLY DESCRIBED AS FOLLOWS: BEGINNING A PK NAIL IN CONCRETE AT A FENCE CORNER, SAID POINT MARKING THE SOUTHWEST CORNER OF SAID ELLA DERANIA PARCEL OF LAND FROM WHICH POINT THE SOUTHWEST CORNER OF SAID SECTION 11 BEARS SOUTH 89 DEGREES 37 MINUTES 18 SECONDS WEST 241.60 FEET DISTANT; THENCE, FROM SAID POINT OF BEGINNING ALONG THE SOUTH LINE OF SAID ELLA DERANIA PARCEL OF LAND, BEING ALSO THE SOUTH LINE OF SAID SECTION 11, NORTH 89 DEGREES 37 MINUTES 18 SECONDS EAST 1078.32 FEET TO A ⅞ INCH STEEL PIN MARKING THE WEST 1/16 SECTION CORNER OF SECTIONS 11 & 14, TOWNSHIP 7 NORTH, RANGE 10 EAST, MOUNT DIABLO MERIDIAN; THENCE NORTH 89 DEGREES 09 MINUTES 17 SECONDS EAST 281.31 FEET TO A SIMILAR STEEL PIN MARKING THE SOUTHEAST CORNER OF SAID ELLA DERANIA PARCEL OF LAND, THENCE ALONG THE EAST LINE OF SAID ELLA DERANIA PARCEL OF LAND, NORTH 00 DEGREES 13 MINUTES 27 SECONDS WEST 700.78 FEET TO A ⅝ INCH REBAR WITH ALUMINUM CAP (STAMPED CAL GEOMETRICS & L.S. 3850) MONUMENT; THENCE LEAVING LAST SAID EAST LINE NORTH 88 DEGREES 52 MINUTES 00 SECONDS WEST 721.26 FEET TO A POINT UNDER WATER IN A SMALL RESERVOIR, (SAID POINT IS REFERENCED BY TWO SIMILAR ⅝ INCH REBAR WITH ALUMINUM CAP MONUMENTS, (1) BEARS SOUTH 88 DEGREES 52 MINUTES 00 SECONDS EAST 397.25 FEET AND (2) BEARS NORTH 08 DEGREES 40 MINUTES 59 SECONDS EAST 50.91 FEET); THENCE NORTH 08 DEGREES 40 MINUTES 59 SECONDS EAST 152.58 FEET TO A SIMILAR ⅝ INCH REBAR AND ALUMINUM CAP MONUMENT SET AT FENCE CORNER; THENCE NORTH 88 DEGREES 52 MINUTES 00 SECONDS WEST 240.80 FEET TO A ¾ INCH PIPE AT A FENCE CORNER; THENCE SOUTH 18 DEGREES 26 MINUTES 10 SECONDS WEST 579.49 FEET TO A ¾ INCH STEEL ROD AT A FENCE CORNER; THENCE NORTH 89 DEGREES 20 MINUTES 00 SECONDS WEST 86.23 FEET TO A 6 INCH DIAMETER IRON PIPE AT A FENCE CORNER; THENCE SOUTH 23 DEGREES 57 MINUTES 11 SECONDS WEST 364.29 FEET TO THE POINT OF BEGINNING.

SAID PARCELS OF LAND ARE ALSO SHOWN AS “SARMENTO 60.00 ACRES COMBINES” ON “RECORD OF SURVEY BOUNDARY LINE ADJUSTMENT FOR ELLA DERANIA AND SARMENTO”, FILED FOR RECORD JANUARY 26, 1986 IN BOOK 40 OF MAPS AT PAGE 10.

PARCEL THREE:

AN EASEMENT FOR INGRESS AND EGRESS AS DESCRIBED IN EASEMENT DEED EXECUTED BY PETER C. DERANIA, ET AL., TO THOMAS J. SARMENTO, ET UX., RECORDED FEBRUARY 23, 1984 IN BOOK 441 PAGE 476 OF AMADOR COUNTY OFFICIAL RECORDS AND WHICH IS SUBJECT TO THE SAME CONDITIONS AS CONTAINED IN SAID EASEMENT DEED.

APN: 010-200-006; 010-200-007 AND 010-200-010

PARCEL ONE:

PARCEL 3 AND PARCEL 8, AS SHOWN AND DESIGNATED ON PARCEL MAP NO. 2290 FOR NORMAN V. AND BARBARA L. WHEELER, FILED FOR RECORD JANUARY 11, 1989 IN BOOK 43 OF MAPS AND PLATS, PAGE 29, RECORDS OF AMADOR COUNTY, CALIFORNIA.

PARCEL TWO:

A NON-EXCLUSIVE RIGHT OF WAY FOR INGRESS TO AND EGRESS FROM THE PARCEL HEREIN DESCRIBED OVER AN EXISTING ROADWAY LEADING FROM CALIFORNIA STATE HIGHWAY SIGN ROUTE 49 TO LANDS HEREIN DESCRIBED.

PARCEL THREE:

AN EASEMENT FOR DRIVEWAY, PARKING AND LANDSCAPING PURPOSED OVER AND ACROSS THE WESTERLY 185 FEET, MORE OR LESS, OF LOT 2 AS SHOWN ON SAID SUBDIVISION MAP, THE SAME BEING THAT PORTION OF SAID LOT 2 WHICH LIES DUE SOUTH OF THE SOUTHEASTERLY BOUNDARY OF SAID LOT 1.

PARCEL FOUR:

PARCEL 9 OF PARCEL MAP NO. 2290, ACCORDING TO THE OFFICIAL MAP THEREOF FILED FOR RECORD ON JANUARY 11, 1989 IN BOOK 43 OF MAPS AND PLATS, AT PAGE 29, AMADOR COUNTY RECORDS.

PARCEL FIVE:

A NON-EXCLUSIVE EASEMENT FOR INGRESS AND EGRESS OVER THOSE AREAS SHOWN AND DESIGNATED AS VILLAGE DRIVE AND LOT A ON PARCEL MAP NO. 2290, ACCORDING TO THE OFFICIAL MAP THEREOF FILED FOR RECORD ON JANUARY 11, 1989 IN BOOK 43 OF MAPS AND PLATS, AT PAGE 29, AMADOR COUNTY RECORDS.

APN: 010-200-011

PARCEL ONE:

PARCEL 7 OF PARCEL MAP NO. 2290, ACCORDING TO THE OFFICIAL MAP THEREOF FILED FOR RECORD ON JANUARY 11, 1989 IN BOOK 43 OF MAPS AND PLATS, AT PAGE 29, AMADOR COUNTY RECORDS.

PARCEL TWO:

A NON-EXCLUSIVE EASEMENT FOR INGRESS AND EGRESS OVER THOSE AREAS SHOWN AND DESIGNATED AS VILLAGE DRIVE AND LOT A ON PARCEL MAPS NO. 2290, ACCORDING TO THE OFFICIAL MAP THEREOF FILED FOR RECORD ON JANUARY 11, 1989 IN BOOK 43 OF MAPS AND PLATS, AT PAGE 29, AMADOR COUNTY RECORDS.

Dated: May 24, 2012.
Donald E. Laverdure,
Acting Assistant Secretary—Indian Affairs.

[FR Doc. 2012-13084 Filed 5-25-12; 4:15 pm]

BILLING CODE 4310-4N-P